FEDERAL COMMUNICATIONS COMMISSION

47 CFR Part 73

[MM Docket No. 93-48]

Broadcast Services; Children's Television

AGENCY: Federal Communications Commission.

ACTION: Final rule; announcement of effective date.

SUMMARY: The Federal Communications Commission has received Office of Management and Budget (OMB) approval for rules published at 61 FR 43981 (August 27, 1996). Therefore, the Commission announces that 47 CFR 73.673 and 47 CFR 73.3500 are effective January 2, 1997.

DATES: The rules in 47 CFR 73.673 and 47 CFR 73.3500 published at 61 FR 43981 (August 27, 1996) are effective January 2, 1997.

SUPPLEMENTARY INFORMATION: The Federal Communications Commission has received OMB approval for rules published at 61 FR 43981 (August 27, 1996). Through this document, the Commission announces that it received this approval on December 30, 1996. The effective date for rules 47 CFR 73.673 and 47 CFR 73.3500 is January 2, 1997.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Cathy Williams, Federal Communications Commission, (202) 418-2918 or via the Internet at cathy.williams@fcc.gov.

Federal Communications Commission.
Marlene H. Dortch,
Secretary.

[FR Doc. 04-27875 Filed 12-20-04; 8:45 am]

BILLING CODE 6712-01-P